CONSUMER PRODUCT SAFETY COMMISSION

Commission Agenda and Priorities; Notice of Hearing

AGENCY: U.S. Consumer Product Safety Commission.

ACTION: Notice of public hearing.

SUMMARY: The U.S. Consumer Product Safety Commission (Commission or CPSC) will conduct a public hearing to receive views from all interested parties about the Commission's agenda and priorities for fiscal year 2022, which begins on October 1, 2021. We invite members of the public to participate. Written comments and oral presentations concerning the Commission's agenda and priorities for fiscal year 2022 will become part of the public record. Due to the COVID-19 pandemic, this year's hearing will be held virtually as a CPSC Webinar meeting. All attendees should pre-register for the Webinar. To pre-register for the Webinar, please visit https://attendee.gotowebinar.com/register/2395411838620426511 and fill in the information. After registering, you will receive a confirmation email containing information about joining the webinar. Instructions for the hearing participants and other interested parties will be made available on the CPSC website on the public calendar: https://www.cpsc.gov/Newsroom/Public-Calendar.

DATES: The hearing will begin via Webinar at 10 a.m. EDT on April 7, 2021, and will conclude the same day.

ADDRESSES: Due to the COVID-19 pandemic, this year's hearing will be held virtually as a Webinar meeting at https://attendee.gotowebinar.com/register/2395411838620426511. Requests to make oral presentations, and texts of oral presentations and written comments should be captioned, “Agenda and Priorities FY 2022,” and sent by electronic mail (email) to: cpsc-os@cpsc.gov. Requests to make oral presentations and the written text of any oral presentations must be received by the Division of the Secretariat not later than 5 p.m. Eastern Daylight Time (EDT) on March 17, 2021. The Commission will accept written comments as well. These also must be received by the Division of the Secretariat not later than 5 p.m. EDT on March 17, 2021.

FOR FURTHER INFORMATION CONTACT: For information about the hearing, or to request an opportunity to make an oral presentation, please send an email to Alberta E. Mills, Division of the Secretariat, U.S. Consumer Product Safety Commission at cpsc-os@cpsc.gov. An electronic copy of the CPSC's Strategic Plan can be found at: www.cpsc.gov/about-cpsc/agency-reports/performance-and-budget.

SUPPLEMENTARY INFORMATION:

I. Background

Section 4(j) of the Consumer Product Safety Act (CPSA) (15 U.S.C. 2053(j)) requires the Commission to establish an agenda for action under the laws the Commission administers, and to the extent feasible, select priorities for action at least 30 days before the beginning of each fiscal year. Section 4(j) of the CPSA provides further that before establishing its agenda and priorities, the Commission shall conduct a public hearing and provide an opportunity for the submission of comments.

II. Registration for CPSC Webinar

The public hearing will be held on April 7, 2021, at 10:00 a.m. EDT via CPSC Webinar. All attendees should pre-register for the Webinar. To pre-register for the Webinar, please visit https://attendee.gotowebinar.com/register/2395411838620426511 and fill in the information. After registering you will receive a confirmation email containing information about joining the webinar. Instructions for the hearing participants and other interested parties will be made available on the CPSC website on the public calendar: https://www.cpsc.gov/Newsroom/Public-Calendar.

III. Oral Presentations and Submission of Written Comments

The Commission is preparing the agency's fiscal year 2022 Operating Plan, which establishes its agenda and priorities for fiscal year 2022. Fiscal year 2022 begins on October 1, 2021. Through this notice, the Commission invites the public to comment on the Commission's agenda and priorities that will be established in the fiscal year 2022 Operating Plan.

Persons who desire to make oral presentations at the hearing on April 7, 2021, should send an email to Alberta E. Mills, Division of the Secretariat, U.S. Consumer Product Safety Commission at cpsc-os@cpsc.gov not later than 5 p.m. EDT on March 17, 2021. Texts of the oral presentation should be captioned, “Agenda and Priorities FY 2022,” and must be received not later than 5 p.m. EDT on March 17, 2021. Presentations should be limited to approximately 10 minutes. The Commission reserves the right to impose further time limitations on all presentations and other restrictions to avoid duplication of presentations.

If you do not want to make an oral presentation, but would like to provide written comments, you may do so. Written comments should be captioned, “Agenda and Priorities FY 2022,” and sent to Alberta E. Mills, Division of the Secretariat, U.S. Consumer Product Safety Commission at cpsc-os@cpsc.gov not later than 5 p.m. EDT on March 17, 2021.

Alberta E. Mills,
Secretary, U.S. Consumer Product Safety Commission.

[FR Doc. 2021-03888 Filed 2-24-21; 8:45 am]

BILLING CODE 6355-01-P